DEPARTMENT OF ENERGY

Federal Energy Regulatory Commission

[CP17-494-000]

Pacific Connector Gas Pipeline, LP; Notice of Correction to eLibrary System

On September 21, 2017, Pacific Connector Gas Pipeline, LP (Pacific Connector) filed in Docket No. CP17-494-000 an application to construct and operate a new interstate pipeline. On September 29, 2017, Commission staff filed a memo to the public record in this proceeding, explaining that the public files for the application were not viewable or accessible when users of the Commission's eLibrary system queried through the General or Advanced Search options.¹ However, the public files for the application would appear in the results if users queried through the Daily Search or Docket Search options.² The memo provided a link to the public files in the proceeding.³

¹ There are five options for searching files on eLibrary: General Search, Advanced Search, New Docket Search, Docket Search, and Daily Search. There is a hyperlink for each search option on the left side of the eLibrary page.

² The Daily Search and Docket Search options continue to properly display the public files for the application.

³ https://elibrary.ferc.gov/idmws/File_list.asp?document_id=14604355.

The Commission has resolved the issues with the eLibrary system as it relates to the public files for the application. The public files now appear using the General Search and Advanced Search options of eLibrary with the same Filed Date as the application. For technical reasons, certain files from the September 21 application were placed separately, and as new entries (with new accession numbers), into eLibrary to allow the General and Advanced Search options to properly return the files in search results; however, this is the exact same filing made by Pacific Connector on September 21, 2017. We are working to resolve similar eLibrary system issues related to the privileged files of the application.⁴

⁴ The list of privileged files for the application can be found here: https://elibrary.ferc.gov/idmws/File_list.asp?document_id=14604356.

If you need assistance with eLibrary, or any other FERC Online system, please contact:

FERC Online Support

Email: ferconlinesupport@ferc.gov.

Telephone: 202-502-6652.

Toll-free: 1-866-208-3676.

Hours: 8:30 a.m. to 5 p.m. Eastern Time, Monday-Friday (closed Federal holidays).

Dated: November 30, 2017.
Nathaniel J. Davis, Sr.,
Deputy Secretary.

[FR Doc. 2017-26243 Filed 12-5-17; 8:45 am]

BILLING CODE 6717-01-P